NUCLEAR REGULATORY COMMISSION

Sunshine Act Meeting

AGENCY HOLDING THE MEETING: Nuclear Regulatory Commission

DATES: Weeks of December 25, 2000, January 1, 8, 15, 22, and 29 2001

PLACE: Commissioners' Conference Room, 11555 Rockville Pike, Rockville, Maryland

STATUS: Public and closed

MATTERS TO BE CONSIDERED:

Week of December 25

There are no meetings scheduled for the Week of December 25.

Week of January 1, 2001—Tentative

There are no meetings scheduled for the Week of January 1, 2001.

Week of January 8, 2001—Tentative

Tuesday, January 9, 2001

9:30 a.m.

Briefing on EEO Program (Public Meeting) (Contact: Irene Little, 301-415-7380)

Wednesday, January 10, 2001

9:25 a.m.

Affirmation Session (Public Meeting) (If needed)

9:30 a.m.

Briefing on Status of Nuclear Materials Safety (Public Meeting) (Contact: Claudia Seelig, 301-415-7243)

This meeting will be webcast live at the Web address— www.nrc.gov/live.html

Week of January 15, 2001—Tentative

Wednesday, January 17, 2001

9:25 a.m.

Affirmation Session (Public meeting) (If needed)

9:30 a.m.

Briefing on Status of Nuclear Reactor Safety (Public Meeting) (Contact: Mike Case, 301-415-1134)

This meeting will be webcast live at the Web address— www.nrc.gov/live.html

Week of January 22—Tentative

There are no meetings scheduled for the Week of January 22.

Week of January 29—Tentative

Tuesday, January 30, 2001

9:30 a.m.

Briefing on Status of Nuclear Waste Safety (Public Meeting) (Contact: Claudia Seelig, 301-415-7243)

This meeting will be webcast live at the Web address— www.nrc.gov/live.html

Wednesday, January 31, 2001

9:25 a.m.

Affirmation Session (Public Meeting) (If needed)

9:30 a.m.

Briefing on Status of OCIO Programs, Performance, and Plans (Public Meeting) (Contact: Donnie Grimsley, 301-415-8702)

This meeting will be webcast live at the Web address— www.nrc.gov/live.html

Thursday, February 1, 2001

9:30 a.m.

Briefing on Status of OCFO Programs, Performance and Plans (Public Meeting) (Contact: Lars Solander, 301-415-6080)

This meeting will be webcast live at the Web address— www.nrc.gov/live.html

The Schedule for Commission meetings is subject to change on short notice. To verify the status of meetings call (recording)—(301) 415-1292.

CONTACT PERSON FOR MORE INFORMATION: Bill Hill (301) 415-1661.

* * * * *

ADDITIONAL INFORMATION: By a vote of 5-0 on December 20, the Commission determined pursuant to U.S.C. 552b(e) and § 9.107(a) of the Commission's rules that “Affirmation of Private Fuels Storage, L.L.C. (independent Spent Fuel Storage Installation) Motion for Clarification of 10 C.F.R. 2.786(b)” be held on December 20, and on less than one week's notice to the public.

By a vote of 5-0 on December 21, the Commission determined pursuant to U.S.C. 552b(e) and § 9.107(a) of the Commission's rules that “Affirmation of CLLI-00-25—MILLSTONE, Docket No. 50-423-LA-3—Commission Memorandum and order remanding a motion to reopen the record filed by the intervenors to the Atomic Safety and Licensing Board for this proceeding for disposition” be held on December 21, and on less than one week's notice to the public.

By a vote of 5-0 on December 21, the Commission determined pursuant to U.S.C. 552b(e) and § 9.107(a) of the Commission's rules that “Affirmation of Final Amendments to 10 CFR 50.47; Thereby Granting in Part Two Petitions for Rulemaking (50-63 and 50-63A); Relating to a Reevaluation of Policy on the Use of Potassium lodide (KI) for the General Public After a Severe Accident at a Nuclear Power Plant” be held on December 22, and on less than one week's notice to the public.

* * * * *

The NRC Commission Meeting Schedule can be found on the Internet at: http://www.nrc.gov/SECY/smi/schedule.htm

* * * * *

This notice is distributed by mail to several hundred subscribers; if you no longer wish to receive it, or would like to be added to it, please contact the Office of the Secretary, Attn: Operations Branch, Washington, DC 20555 9301-415-1661). In addition, distribution of this meeting notice over the Internet system is available. If you are interested in receiving this Commission meeting schedule electronically, please send an electronic message to wmh@nrc.gov or dkw@nrc.gov.

Dated: December 22, 2000.
William M. Hill, Jr.,
SECY Tracking Officer, Office of the Secretary.

[FR Doc. 00-33289 Filed 12-26-00; 12:48 pm]

BILLING CODE 7590-01-M